DEPARTMENT OF TRANSPORTATION

Federal Highway Administration

Notice of Final Federal Agency Actions on Proposed Highway in Washington

AGENCY: Federal Highway Administration (FHWA), Department of Transportation (DOT).

ACTION: Notice of limitation on claims for judicial review of actions by FHWA

SUMMARY: This notice announces actions taken by the FHWA that are final. The action relates to the approval of the Re-Evaluation for the State Route (SR) 509 Completion Project in King County, State of Washington.

DATES: A claim seeking judicial review of the Federal agency actions on the highway project will be barred unless the claim is filed on or before January 22, 2019. If the Federal law that authorizes judicial review of a claim provides a time period of less than 150 days for filing such claim, then that shorter time period still applies.

FOR FURTHER INFORMATION CONTACT: For FHWA, Lindsey Handel, Area Engineer, Federal Highway Administration, 711 S. Capitol Way, Suite 501, Olympia, WA 98501-1284, 360-753-9550, or Megan White, Director, Environmental Services Office, Washington State Department of Transportation, 310 Maple Park Avenue SE, Olympia, WA 98504, 360-705-7480, or Megan.White@wsdot.wa.gov.

SUPPLEMENTARY INFORMATION: Notice is hereby given that FHWA has taken final agency action(s) subject to 23 U.S.C. 139(l)(1) by issuing licenses, permits, and approvals for the following highway project in the State of Washington: The SR 509 Completion Project will extend the existing SR 509 freeway southeasterly from its current South 188th Street terminus to a new interchange on Interstate 5 (I-5) and will construct additional improvements on I-5 south of the new I-5/SR 509 interchange. The extension of SR 509 will be a new four-lane (two lanes in each direction) fully tolled highway segment from South 188th Street to I-5. The SR 509 Completion Project is a critical missing link in the state's highway network. The purpose of the proposed action is to improve regional highway connections with an extension of SR 509 to serve current and future transportation needs in southwest King County and to enhance southern access to Sea-Tac Airport. The SR 509 Completion Project improves transportation connections between urban and manufacturing centers in south King County for people and goods. Extending SR 509 will ease congestion on I-5, create another access point to Sea-Tac International Airport, and improve service between industrial districts by allowing freight and traffic to bypass I-5, SR 99 and local streets. The actions by the Federal agencies, and the laws under which such actions were taken, are described in the Re-Evaluation for the project approved on January 16, 2018, and in other documents in the project records. The Re-Evaluation, and other project records are available from FHWA and WSDOT at the addresses provided above and can be found at: https://www.wsdot.wa.gov/Projects/SR509/completion/Library.htm.

This notice applies to all Federal agency decisions that are final as of the issuance date of this notice and all laws under which such actions were taken, including but not limited to:

1. General: National Environmental Policy Act (NEPA) (42 U.S.C. 4321-4351); Federal-Aid Highway Act (23 U.S.C. 109 and 23 U.S.C. 128).

2. Air: Clean Air Act (42 U.S.C. 7401-7671q).

3. Land: Section 4(f) of the Department of Transportation Act of 1966 (49 U.S.C. 303; 23 U.S.C. 138); Landscaping and Scenic Enhancement (Wildflowers) (23 U.S.C. 319).

4. Wildlife: Endangered Species Act (16 U.S.C. 1531-1544 and Section 1536); Marine Mammal Protection Act (16 U.S.C. 1361-1423h); Fish and Wildlife Coordination Act (16 U.S.C. 661-667d); Migratory Bird Treaty Act (16 U.S.C. 703-712).

5. Historic and Cultural Resources: Section 106 of the National Historic Preservation Act of 1966, as amended (16 U.S.C. 470f); Archeological Resources Protection Act of 1977 (16 U.S.C. 470aa-470mm); Archeological and Historic Preservation Act (16 U.S.C. 469-469c); Native American Grave Protection and Repatriation Act (NAGPRA) (25 U.S.C. 3001-3013).

6. Social and Economic: American Indian Religious Freedom Act (42 U.S.C. 1996); Farmland Protection Policy Act (FPPA) (7 U.S.C. 4201-4209).

7. Wetlands and Water Resources: Clean Water Act (Section 404, Section 401, Section 319) (33 U.S.C. 1251-1387); Land and Water Conservation Fund (LWCF) (16 U.S.C. 4601-4604); Safe Drinking Water Act (SDWA) (42 U.S.C. 300f-300j-26)); Rivers and Harbors Act of 1899 (33 U.S.C. 401-406); Wild and Scenic Rivers Act (16 U.S.C. 1271-1287); Emergency Wetlands Resources Act, (16 U.S.C. 3901, 3921); Wetlands Mitigation (23 U.S.C. 119(g) and 133(b)(14)); Flood Disaster Protection Act, 42 U.S.C. 4012a, 4106).

8. Executive Orders: E.O. 11990 Protection of Wetlands; E.O. 11988 Floodplain Management; E.O. 12898, Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

9. Navigation: Rivers and Harbors Act of 1899 [33 U.S.C. 403]; General Bridge Act of 1946 [33 U.S.C. 9 and 11].

(Catalog of Federal Domestic Assistance Program Number 20.205, Highway Planning and Construction. The regulations implementing Executive Order 12372 regarding intergovernmental consultation on Federal programs and activities apply to this program.)

Authority: 23 U.S.C. 139(l)(1).

Issued on: August 15, 2018.
Daniel M. Mathis,
Division Administrator, Olympia, Washington.

[FR Doc. 2018-18083 Filed 8-23-18; 8:45 am]

BILLING CODE 4910-RY-P